OFFICE OF THE UNITED STATES TRADE REPRESENTATIVE

Notice of Opportunity To Apply for Nominations to the World Trade Organization Dispute Settlement Indicative List of Potential Panelists

AGENCY: Office of the United States Trade Representative.

ACTION: Notice of opportunity to apply for nomination by the United States to the indicative list of non-governmental potential panelists provided for in Article 8.4 of the Understanding on Rules and Procedures Governing the Settlement of Disputes (“DSU”) and in the Decision on Certain Dispute Settlement Procedures for the General Agreement on Trade in Services (“GATS”) of the World Trade Organization (“WTO”).

SUMMARY: The Office of the United States Trade Representative is seeking to update the current list of U.S. non-governmental individuals on the indicative list of potential panelists maintained by the WTO Secretariat, as provided for in Article 8.4 of the DSU. The DSU provides a mechanism for the settlement of disputes between the Members of the WTO. A three-person panel conducts each dispute settlement proceeding and issues a report for consideration by the Dispute Settlement Body (“DSB”). The indicative list assists in selecting panelists for dispute settlement proceedings; panelists often are drawn from the indicative list, although there is no requirement to do so. Article 8.4 of the DSU also provides for periodically updating the indicative list. Section 123(b) of the Uruguay Round Agreement Act (“URAA”), Public Law 103-405, provides that the Trade Representative shall seek to ensure that persons appointed to the WTO indicative list are well-qualified and that the indicative list includes persons with expertise in all of the subject matters covered by the Uruguay Round Agreements. USTR invites citizens of the United States with appropriate qualifications, discussed below, to apply for consideration as a nominee to the indicative list.

DATES: Eligible citizens are encouraged to apply by October 19, 2007 to be considered for nomination to the list in 2007.

FOR FURTHER INFORMATION CONTACT: For information contact Sandy McKinzy, Litigation Assistant, USTR Office of Monitoring and Enforcement, (202) 395-3582. Further information on the indicative list is available on the WTO Web site at http://www.wto.org in a document designated WT/DSB/33.

SUPPLEMENTARY INFORMATION: Pursuant to Article 8.4 of the DSU, the WTO Secretariat maintains an indicative list of well-qualified governmental and non-governmental individuals, including persons who have served on or presented a case to a panel, taught or published on international trade law or policy, served as a senior trade policy official of a WTO member country, or served in the WTO Secretariat. The indicative list is used to assist in the selection of panelists for dispute settlement proceedings. Panel members are to be selected with a view to ensuring a sufficiently diverse background and a wide spectrum of experience.

The current list dates principally from 2003 (with the addition of some persons nominated later and approved by the DSB). In addition to being available on the WTO Web site, the list is also reproduced in the USTR Annual Report, available on the USTR Web site at http://www.ustr.gov/Document_Library/Reports_Publications/2007/2007_Trade_Policy_Agenda.

The indicative list includes a special roster of those with expertise in particular service sectors, pursuant to the Decision on Certain Dispute Settlement Procedures for the GATS (S/L/2 of 4 April 1995). GATS disputes could involve, inter alia, one or more of the following eleven principal sectors: (1) Business services, including professional and related services, (for example, legal, accounting, auditing and bookkeeping, taxation, medical, dental, veterinary, engineering, architectural, and urban planning services), computer and related services, research and development services, real estate services, rental and leasing services, and advertising and management services; (2) communication services (including audio-visual services); (3) construction and related engineering services; (4) distribution services; (5) educational services; (6) environmental services; (7) financial services, including insurance and insurance-related services, banking and securities services; (8) health related and social services; (9) tourism and travel-related services; (10) recreational, cultural and sporting services, and (11) transport services. Panels for GATS disputes are to be composed of well-qualified governmental and/or non-governmental individuals who have experience in issues related to GATS and/or trade in services, including associated regulatory matters. Dispute settlement panels concerning sectoral matters under the GATS must have expertise relevant to the specific service sector to which the dispute relates. The GATS Annex on Financial Services further provides that panels for disputes on prudential issues and other financial matters must have the necessary expertise relevant to the specific financial service under dispute.

USTR currently seeks applications related to the list of non-governmental individuals. Persons selected by USTR will be nominated for inclusion on the WTO indicative list subject to DSB approval. Inclusion of a name on the list, however, does not necessarily mean that the individual will be selected for service on a panel. DSU Article 8.2 provides that citizens of WTO Members who are parties or interested third parties to a dispute may not serve on the panel in that dispute unless the parties agree otherwise. For example, panels for disputes in which the United States is a party or interested third party cannot include any U.S. citizens unless the parties to the dispute agree otherwise. Since the United States is a party or third party to almost every dispute, very few U.S. citizens have served as panelists.

Functions of Panels

WTO dispute settlement panels consist of three persons (unless the parties agree to have five panelists) whose function is to make an objective assessment of the matter under dispute, including an objective assessment of the facts of the case, the applicability of the relevant WTO agreements and the conformity of the measure under consideration with the obligations of those agreements. In addition, panels are to make such other findings as will assist the DSB in making the recommendations provided for in the WTO agreements. Panelists must act in strict conformity with the provisions of the WTO agreements, including application of the appropriate standard of review. Panels are responsible for providing a report to the DSB, including recommendations if necessary, on the conformity of the matter under dispute with WTO obligations. Panelists must also comply with the WTO Rules of Conduct (available at http://www.wto.org in a document designated WT/DSB/RC/1) relating to conflicts of interest and conduct as a panelist.

Procedures for Application

Non-governmental U.S. citizens (i.e., individuals not currently employed fulltime by the U.S. Federal government or a state or local government) meeting the qualifications of Article 8 of the DSU and possessing expertise in international trade in goods, services, intellectual property rights or other matters covered by the WTO agreements are invited to file an application for nomination to the WTO list. Applications must be submitted (i) Electronically, to FR0719@ustr.eop.gov, with “Indicative List Application” in the subject line, or (ii) by fax, to Sandy McKinzy at (202) 395-3640, with a confirmation copy sent electronically to the electronic mail address above, in accordance with the requirements for submission set out below.

Applicants are to provide the following information to the extent applicable, and should bear in mind the information on the “Summary Curriculum Vitae for Persons Proposed for the Indicative List” at the end of the document designated WTO/DSB/33:

1. Name of the applicant;

2. Business address, telephone number and, if available, fax number and e-mail address;

3. Citizenship(s);

4. Foreign language fluency, spoken and written;

5. Current employment, including title, description of responsibilities, and name and address of employer;

6. Relevant education and professional training, including particular service-sector expertise, if any;

7. Post-education employment history, including the dates and address of each prior position and a summary of responsibilities;

8. Relevant professional affiliations and certifications;

9. List of publications and speeches; teaching experience in the area of trade; also, one copy of any speeches and publications relevant to the subject matter of the WTO agreements or service sector;

10. List of international trade proceedings or domestic proceedings relating to international trade (WTO) matters in which the person has provided advice or otherwise participated, including judicial or administrative proceedings over which that person has presided;

11. The names and nationalities of all foreign principals for whom the applicant is currently or has previously been registered pursuant to the Foreign Agents Registration Act, 22 U.S.C. 611 et seq., and the dates of all registration periods;

12. Names, addresses, telephone and, if available, email addresses of three individuals authorized to provide information to USTR concerning the applicant's qualifications for service, including the applicant's familiarity with international trade laws and other areas of expertise, character, reliability and judgment; and

13. A short statement of qualifications in light of Article 8.1 of the DSU, including information relevant to the applicant's familiarity with international trade, services or other issues covered by the WTO agreements, and availability for service.

USTR encourages the submission of documents in Adobe PDF format as attachments to an electronic mail. Interested persons who make submissions by electronic mail should not provide separate cover letters; information that might appear in a cover letter should be included in the submission itself. Similarly, to the extent possible, any attachments to the submission should be included in the same file as the submission itself, and not as separate files.

Information provided by applicants will be used by USTR for the purpose of selecting candidates for nomination to the WTO list. Further information concerning potential conflicts may be requested from individuals and the possibility of significant conflicts will be taken into consideration in evaluating applicants.

U.S. citizens who are current members of the WTO list and are interested in continuing to serve on the list need not reapply in response to this notice. Individuals who have previously applied but have not been selected for nomination may reapply. USTR will contact applicants that qualify for further consideration as nominees regarding any additional information that may be required.

This notice contains a collection of information provision subject to the Paperwork Reduction Act (PRA) which has been approved by OMB. Notwithstanding any other provision of law, no person is required to respond to nor shall a person be subject to a penalty for failure to comply with a collection of information subject to the requirements of the PRA unless that collection of information displays a currently valid OMB number. This notice's collection of information burden is only for those persons who wish to voluntarily apply for nomination to the WTO list. It is expected that the collection of information burden will be under 3 hours. This is a one-time-only collection of information, and contains no annual reporting and recordkeeping burden. This collection of information was approved by OMB under OMB Control Number 0350-0014. Send comments regarding the collection of information burden or any other aspect of the information collection to USTR at the address above.

The following statements are made in accordance with the Privacy Act of 1974, as amended (5 U.S.C. 552a). Provision of the information requested above is voluntary; however, failure to provide the information will preclude consideration of the applicant as a candidate for the WTO list. The information may be disclosed to government officials, including members of the TPSC Subcommittee on Monitoring and Enforcement, for the purpose of evaluation of applications. Information on nominees will be furnished to the WTO pursuant to requirements under the DSU.

Daniel E. Brinza,
Assistant United States Trade Representative for Monitoring and Enforcement.

[FR Doc. 07-4597 Filed 9-14-07; 8:45 am]

BILLING CODE 3190-W7-M